NATIONAL AERONAUTICS AND SPACE ADMINISTRATION

[Notice 03-033]

Notice of Availability of NASA's Annual Report on Its Alternative Fuel Vehicle (AFV) Acquisitions for Fiscal Year 2002

AGENCY: National Aeronautics and Space Administration (NASA).

SUMMARY: Under the Energy Policy Act of 1992 (42 U.S.C. 13211-13219) as amended by the Energy Conservation Reauthorization Act of 1998 (Pub. L. 105-388), and Executive Order 13149 (April 2000), “Greening the Government Through Federal Fleet and Transportation Efficiency,” NASA's annual AFV reports are available on the following NASA Web site: www.hq.nasa.gov/office/codej/codejlg/afv.htm.

ADDRESSES: Logistics Management Office, NASA Headquarters, Code JG, 300 E Street, SW., Washington, DC 20546-0001.

FOR FURTHER INFORMATION CONTACT: William Gookin, (202) 358-2306, or wgookin@hq.nasa.gov.

Jeffrey E. Sutton,
Assistant Administrator for Management Systems.

[FR Doc. 03-6913 Filed 3-21-03; 8:45 am]

BILLING CODE 7510-01-P